ENVIRONMENTAL PROTECTION AGENCY

[EPA-R09-OAR-2016-0026; FRL-9953-02-Region 9]

Notice of Approval of Clean Air Act Permit for Navajo Generating Station

AGENCY: United States Environmental Protection Agency (EPA).

ACTION: Notice of final agency action.

SUMMARY: This notice announces that the Environmental Protection Agency (EPA) issued a final permit decision for a Clean Air Act Minor New Source Review (NSR) Permit in Indian Country to the Salt River Project Agricultural Improvement and Power District (SRP) for the construction of a refined coal treatment system (RCTS) at Navajo Generating Station (NGS). The permit authorizes SRP to construct and operate the RCTS, including ancillary equipment, to treat coal with cement kiln dust and calcium bromide so as to reduce emissions of oxides of nitrogen (NOX) and mercury.

DATES: The EPA issued a final minor NSR permit decision for the NGS RCTS Project on August 31, 2016. The permit became effective on that date. Pursuant to section 307(b)(1) of the Clean Air Act, 42 U.S.C. 7607(b)(1), judicial review of this final permit decision, to the extent it is available, may be sought by filing a petition for review in the United States Court of Appeals for the Ninth Circuit within 60 days of September 26, 2016.

ADDRESSES: Documents relevant to the above-referenced permit are available for public inspection during normal business hours at the following address: U.S. Environmental Protection Agency, Region 9, 75 Hawthorne Street, San Francisco, CA 94105-3901. To arrange for viewing of these documents, call Larry Maurin at (415) 972-3943. Due to building security procedures, at least 48 hours advance notice is required.

FOR FURTHER INFORMATION CONTACT: Larry Maurin, EPA Region 9, (415) 972-3943, maurin.lawrence@epa.gov. Anyone who wishes to review the EPA Environmental Appeals Board's (EAB) decision described below or documents in the EAB's electronic docket for its decision can obtain them at http://www.epa.gov/eab/. Key portions of the administrative record for this decision (including the final permit, all public comments, the EPA's responses to the public comments, and additional supporting information) are available through a link at Region 9's Web site, http://www2.epa.gov/caa-permitting/tribal-nsr-permits-region-9, or at http://www.regulations.gov (Docket ID # EPA-R09-OAR-2016-0026).

NOTICE OF FINAL ACTION AND SUPPLEMENTARY INFORMATION: The EPA issued a final permit to SRP authorizing the construction and operation of the RCTS at NGS—Tribal Minor NSR Permit T-0004-NN. The permit for the RCTS was initially issued by the EPA on April 20, 2016. The EPA regulations at 40 CFR 49.159(d) provided an opportunity for administrative review by the EPA's EAB of this initial permit decision.

The EPA's EAB received one petition for review of the permit, and on August 30, 2016, the EAB issued an Order denying the petition for review. See In re Salt River Agricultural Improvement and Power District—Navajo Generating Station, NSR Appeal No. 16-01 (EAB, Aug. 30, 2016) (Order Denying Petition for Review). Following the EAB's action, pursuant to 40 CFR 49.159(d)(8), the EPA issued a final permit decision on August 31, 2016. All conditions of the NGS RCTS permit, as initially issued by the EPA on April 20, 2016, are final and effective as of August 31, 2016.

Dated: September 8, 2016.
Elizabeth Adams,
Acting Director, Air Division, Region IX.

[FR Doc. 2016-23170 Filed 9-23-16; 8:45 am]

BILLING CODE 6560-50-P